DEPARTMENT OF DEFENSE

Office of the Secretary

[Docket ID DoD-2021-OS-0113]

Proposed Collection; Comment Request

AGENCY: The Office of the Under Secretary of Defense for Personnel and Readiness, Department of Defense (DoD).

ACTION: Information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 3, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, 571-372-2089.

SUPPLEMENTARY INFORMATION: Title; Associated Form; and OMB Number: Status of Forces Survey of Reserve Component Members; OMB Control Number 0704-0616.

Needs And Uses: The purpose of the Status of the Forces Survey of Reserve Component Members (SOFS-R) is to assess the attitudes and opinions of Reserve component members and to provide key metrics to the OUSD(P&R). Results of this survey are used to provide direct feedback on key strategic indicators such as satisfaction and retention. These indicators provide primary data on personnel career plans, retention decisions, morale, commitment, and quality of life and historically provide the ability to evaluate the impact of policies and programs with regard to readiness and retention.

Affected Public: Individuals or households.

Annual Burden Hours: 5,505 hours.

Number of Respondents: 16,515.

Responses per Respondent: 1.

Annual Responses: 16,515.

Average Burden per Response: 20 minutes.

Frequency: Annually.

Dated: October 29, 2021.
Aaron T. Siegel,
Alternate OSD Federal Register Liaison Officer, Department of Defense.

[FR Doc. 2021-24031 Filed 11-3-21; 8:45 am]

BILLING CODE 5001-06-P